DEPARTMENT OF DEFENSE

Department of the Army

Record of Decision for the Clinical and Biological Defense Program (CBDP) Final Programmatic Environmental Impact Statement (FPEIS)

AGENCY: U.S. Army Medical Research and Material Command (USAMRMC), Department of the Army, DoD.

ACTION: Notice of Availability.

SUMMARY: The U.S. Army, as executive agent for the CBDP, announces that a Record of Decision (ROD) has been signed documenting the decision to execute an integrated CBDP designed to protect our Soldiers, Sailors, Marines, and Airmen form the evolving chemical and biological (CB) threats they may encounter on the battlefield. The CBDP does not pursue effective CB weapon capability and its execution is in full compliance with both international and domestic law including, but not limited to, the Convention on the Prohibition of the Development, Production and Stockpiling of Bacteriological (Biological) and Toxin Weapons and on Their Destruction and the Biological Weapons Antiterrorism Act. The FPEIS evaluates the potential environmental impacts associated with the execution of the DoD CBDP. The No Action Alternative, continuation of current CBDP operations, was also evaluated. No other alternatives were identified during the public scoping process. Neither the selected action nor the No Action Alternative would result in the occurrence of significant adverse environmental impacts.

ADDRESSES: Requests for copies of the ROD may be made to Ms. JoLane Souris, Command Environmental Coordinator, U.S. Army Medical Research and Material Command, Office of Surety, Safety, and Environmental, 504 Scott Street, Fort Detrick, MD 21702-5012 or by visiting the CBDP PEIS Web site at http://chembioeis.detrick.army.mil.

FOR FURTHER INFORMATION CONTACT: Ms. JoLane Souris, by calling (301) 619-2004; or by fax at (301) 619-6627.

SUPPLEMENTARY INFORMATION: Prior to 2003, the mission of the DoD CBDP was to provide CB defense capabilities to allow the military forces of the United States to survive and successfully complete their operational missions in battle space environments contaminated with CB warfare agents. Now this mission has expanded to cover military capability to operate in the face of threats in homeland security missions, as well as warfighter missions. If our military forces are not fully and adequately prepared to meet these threats, the consequences could be devastating. The CBDP to support this mission comprises research, development, and acquisition activities. Each of the Military Services, the Joint Program Executive Office for Chemical and Biological Defense, and the Defense Advanced Researched Projects Agency conduct CBDP activities. Some of these CBDP activities necessarily involve the use of hazardous chemicals or infectious disease agents for research, development, and production purposes. The controls on and the potential environmental consequences of such use for both the proposed action and the alternative were primary focuses of the CBDP FPEIS that can be found at http://chembioeis.detrick.army.mil.

Although numerous environmental documents dating back to the Biological Defense Research and Development Program Final Programmatic Environmental Impact Statement (April 1989) have been prepared analyzing the potential environmental consequences of various elements of the CBDP, no one document analyzes the potential environmental impacts of the full range of CBDP activities. In keeping with the purposes of the National Environmental Policy Act, DoD prepared such a document in the form of the CBDP FPEIS. This document creates an overarching framework that will continue to ensure fully informed government decisionmaking within the CBDP and will provide a single, up-to-date information resource for the public.

Dated: May 19, 2006.
Addison D. Davis, IV
Deputy Assistant Secretary of the Army, (Environment, Safety and Occupational Health) OASA (I&E).

[FR Doc. 06-4859 Filed 5-24-06; 8:45 am]

BILLING CODE 371-08-M